DEPARTMENT OF ENERGY

Federal Energy Regulatory Commission

Combined Notice of Filings #1

August 22, 2005.

Take notice that the Commission received the following electric rate filings:

Docket Numbers: ER96-110-017; EL05-4-001.

Applicants: Duke Power, Division of Duke Energy Corporation.

Description: Duke Power submits a refund report pursuant to the Commission's order issued 6/30/05 in Docket Nos. ER96-110-013, et al., 111 FERC ¶ 61,506 (2005).

Filed Date: 08/15/2005.

Accession Number: 20050815-5128.

Comment Date: 5 p.m. Eastern Time on Tuesday, September 06, 2005.

Docket Numbers: ER96-1085-009; EL05-122-000.

Applicants: South Carolina Electric and Gas Company.

Description: South Carolina Electric and Gas Company submits response to the Commission's Order issued 6/16/05 in Docket Nos. ER96-1085-006; ER96-1085-007 and EL05-122-000, 111 FERC ¶ 61,410 (2005) to address the issue of market power within its control area.

Filed Date: 08/15/2005.

Accession Number: 20050819-0091.

Comment Date: 5 p.m. Eastern Time on Tuesday, September 06, 2005.

Docket Numbers: ER02-485-005.

Applicants: Midwest Independent Transmission System Operator, Inc.

Description: Midwest Independent Transmission System. Operator, Inc. submits refund report in compliance with the Commission's order issued 6/3/05 in Docket No. ER02-485-004, 111 FERC ¶ 61,355 (2005).

Filed Date: 08/17/2005.

Accession Number: 20050817-5007.

Comment Date: 5 p.m. Eastern Time on Wednesday, September 07, 2005.

Docket Numbers: ER05-531-003.

Applicants: ISO New England Inc; New England Power Pool Participation Committee.

Description: ISO New England Inc. and New England Power. Pool Participation Committee submit their partial de-listing 60-day compliance filing pursuant to the Commission's Order issued 3/31/05 in Docket No. ER05-531-000, 110 FERC ¶ 61,396 (2005).

Filed Date: 08/15/2005.

Accession Number: 20050819-0090.

Comment Date: 5 p.m. Eastern Time on Tuesday, September 06, 2005.

Docket Numbers: ER05-881-001.

Applicants: Midwest Independent Transmission System Operator, Inc.

Description: Midwest Independent Transmission System Operator, Inc. submits the large generator interconnection agreement with High Prairie Wind Farm I, LLC, the Midwest ISO and Interstate Power and Light Company, a wholly-owned subsidiary of Alliant Energy Corporation in compliance with the Commission's order issued 6/17/05 in Docket No. ER05-881-000, 111 FERC ¶ 61,421 (2005).

Filed Date: 08/17/2005.

Accession Number: 20050819-0088.

Comment Date: 5 p.m. Eastern Time on Wednesday, September 07, 2005.

Docket Numbers: ER05-893-004; ER05-895-003.

Applicants: Dominion Retail, Inc.; Elwood Energy LLC.

Description: Dominion Retail, Inc. and Elwood Energy LLC submit amendments to their 6/24/05 filings in Docket Nos. ER05-893-002 and ER05-895-002.

Filed Date: 08/15/2005.

Accession Number: 20050819-0093.

Comment Date: 5 p.m. Eastern Time on Tuesday, September 06, 2005.

Docket Numbers: ER05-981-002.

Applicants: Pocono Energy Services, LLC.

Description: Pocono Energy Services, LLC submits an amendment to its 5/18/05 petition, as amended on 7/5/05, for acceptance of initial rate schedule FERC No. 1, waivers and blanket authority.

Filed Date: 08/17/2005.

Accession Number: 20050819-0092.

Comment Date: 5 p.m. Eastern Time on Monday, August 29, 2005.

Docket Numbers: ER05-988-002.

Applicants: Nevada Power Co.

Description: Nevada Power Co submits an executed Service Agreement for Long-Term Firm Point-to-Point Transmission Service with PacifiCorp in compliance with the Commission's order issued 7/18/05 in Docket No. ER05-988-000, 112 FERC ¶ 61,072.

Filed Date: 08/17/2005.

Accession Number: 20050822-0085.

Comment Date: 5 p.m. Eastern Time on Wednesday, September 07, 2005.

Docket Numbers: ER05-1357-000.

Applicants: Southern California Edison Company.

Description: Southern California Edison Company (SCE) submits revised rate sheets to the Interconnection Facilities Agreement between the City of Corona and SCE, Service Agreement No. 78, under SCE's Wholesale Distribution Access Tariff, First Revised Volume No. 5.

Filed Date: 08/17/2005.

Accession Number: 20050819-0009.

Comment Date: 5 p.m. Eastern Time on Wednesday, September 07, 2005.

Docket Numbers: ER05-1358-000.

Applicants: KGen Hinds, LLC.

Description: KGen Hinds LLC submits a rate schedule under which it specifies its rates for providing cost-based reactive support and voltage control from generation sources service from its natural gas-fired, combined cycle electric generation facility located in Hinds County, Mississippi that is currently in the Entergy Mississippi, Inc. control area.

Filed Date: 08/17/2005.

Accession Number: 20050819-0008.

Comment Date: 5 p.m. Eastern Time on Wednesday, September 07, 2005.

Docket Numbers: ER05-1359-000.

Applicants: Reliant Energy Maryland Holdings, LLC.

Description: Reliant Energy Maryland Holdings, LLC submits a notice of cancellation of FERC Electric Tariff, Second Revised Volume No. 1, to be effective 10/17/05.

Filed Date: 08/17/2005.

Accession Number: 20050819-0007.

Comment Date: 5 p.m. Eastern Time on Wednesday, September 07, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-4660 Filed 8-25-05; 8:45 a.m.]

BILLING CODE 6717-01-P